DEPARTMENT OF LABOR

Office of Workers' Compensation Programs

Proposed Extension of Existing Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Office of Workers' Compensation Programs is soliciting comments concerning the proposed collection: Overpayment Recovery Questionnaire (OWCP-20). A copy of the proposed information collection request can be obtained by contacting the office listed below in the addresses section of this Notice.

DATES: Written comments must be submitted to the office listed in the addresses section below on or before September 21, 2015.

ADDRESSES: Ms. Yoon Ferguson, U.S. Department of Labor, 200 Constitution Ave., NW., Room S-3323, Washington, DC 20210, telephone/fax (202) 354-9647, Email ferguson.yoon@dol.gov. Please use only one method of transmission for comments (mail or Email).

SUPPLEMENTARY INFORMATION:

I. Background: The Office of Workers' Compensation Programs (OWCP) is the agency responsible for administration of the Federal Employees' Compensation Act (FECA), 5 U.S.C. 8101 et seq., the Black Lung Benefits Act (BLBA), 30 U.S.C. 901 et seq., and the Energy Employees Occupational Illness Compensation Program Act of 2000 (EEOICPA), 42 U.S.C. 7384 et seq. This information collection is used by OWCP examiners to ascertain the financial condition of the beneficiary to determine if the overpayment or any part can be recovered; to identify the possible concealment or improper transfer of assets; and to identify and consider present and potential income and current assets for enforced collection proceedings. The questionnaire provides a means for the beneficiary to explain why he/she is without fault in an overpayment matter. If this information were not collected BLBA, EEOICPA and FECA would have little basis to determine appropriate collection proceedings. This information collection is currently approved for use through December 31, 2015.

II. Review Focus: The Department of Labor is particularly interested in comments which:

* evaluate whether the proposed collection of information is necessary for the proper performance of the functions of the agency, including whether the information will have practical utility;

* evaluate the accuracy of the agency's estimate of the burden of the proposed collection of information, including the validity of the methodology and assumptions used;

* enhance the quality, utility and clarity of the information to be collected; and

* minimize the burden of the collection of information on those who are to respond, including through the use of appropriate automated, electronic, mechanical, or other technological collection techniques or other forms of information technology, e.g., permitting electronic submissions of responses.

III. Current Actions: The Department of Labor seeks the approval of the extension of this currently approved information collection in order to determine whether or not the recovery of any Black Lung Benefits Act (BLBA), Energy Employees Occupational Illness Compensation Program Act (EEOICPA) or Federal Employees' Compensation Act (FECA) overpayment may be waived, compromised, terminated, or collected in full.

Type of Review: Extension.

Agency: Office of Workers' Compensation Programs.

Title: Overpayment Recovery Questionnaire.

OMB Number: 1240-0051.

Agency Number: OWCP-20.

Affected Public: Individuals and households.

Total Respondents: 3,393.

Total Responses: 3,393.

Time per Response: 1 hour.

Estimated Total Burden Hours: 3,393.

Total Burden Cost (capital/startup): $0.

Total Burden Cost (operating/maintenance): $1,954.

Comments submitted in response to this notice will be summarized and/or included in the request for Office of Management and Budget approval of the information collection request; they will also become a matter of public record.

Dated: July 17, 2015.
Yoon Ferguson,
Agency Clearance Officer, Office of Workers' Compensation Programs, US Department of Labor.

[FR Doc. 2015-18000 Filed 7-22-15; 8:45 am]

BILLING CODE 4510-CR-P